DEPARTMENT OF STATE

[Public Notice 10196]

Review of the Designation as a Foreign Terrorist Organization of Islamic Resistance Movement (Hamas and Other Aliases)

Based upon a review of the Administrative Record assembled pursuant to Section 219(a)(4)(C) of the Immigration and Nationality Act, as amended (8 U.S.C. 1189(a)(4)(C)) (“INA”), and in consultation with the Attorney General and the Secretary of the Treasury, I conclude that the circumstances that were the basis for the designation of the aforementioned organization as a Foreign Terrorist Organization have not changed in such a manner as to warrant revocation of the designation and that the national security of the United States does not warrant a revocation of the designation. Therefore, I hereby determine that the designation of the aforementioned organization as a Foreign Terrorist Organization, pursuant to Section 219 of the INA (8 U.S.C. 1189), shall be maintained.

This determination shall be published in the Federal Register.

Rex W. Tillerson,
Secretary of State.

[FR Doc. 2017-24598 Filed 11-13-17; 8:45 am]

BILLING CODE 4710-AD-P